DEPARTMENT OF TRANSPORTATION

Federal Highway Administration

[FHWA Docket no. FHWA-2017-0018]

Transportation Asset Management Plan Development Processes Certification and Recertification Guidance; Transportation Asset Management Plan Consistency Determination Guidance

AGENCY: Federal Highway Administration, DOT.

ACTION: Notice; request for comments.

SUMMARY: The FHWA is seeking comments on two draft documents: (1) Transportation Asset Management Plan Development Processes Certification and Recertification Guidance, and (2) Transportation Asset Management Plan Consistency Determination Guidance. These documents provide implementation guidance on provisions of the Moving Ahead for Progress in the 21st Century Act (MAP-21) and the Asset Management Final Rule, which requires a State department of transportation (State DOT) to develop and implement a risk-based asset management plan. Under these authorities, FHWA must (1) certify that transportation asset management plan (TAMP) development processes established by a State DOT meet applicable requirements, and (2) make an annual consistency determination, evaluating whether a State DOT has developed and implemented a State-approved TAMP that meets all applicable requirements. This notice announces the availability of these draft documents on the online docket at the docket number for this notice.

DATES: Comments must be received on or before July 5, 2017.

ADDRESSES: To ensure that you do not duplicate your docket submissions, please submit all comments by only one of the following means:

• Federal eRulemaking Portal: Go to http://www.regulations.gov and follow the online instructions for submitting comments.

• Mail: Docket Management Facility, U.S. Department of Transportation, 1200 New Jersey Ave. SE., W12-140, Washington, DC 20590-0001.

• Hand Delivery: West Building Ground Floor, Room W12-140, 1200 New Jersey Ave. SE., between 9 a.m. and 5 p.m., Monday through Friday, except Federal holidays. The telephone number is (202) 366-9329.

• Instructions: You must include the agency name and docket number at the beginning of your comments. All comments received will be posted without change to http://www.regulations.gov, including any personal information provided.

FOR FURTHER INFORMATION CONTACT: For questions about this notice contact Mr. Stephen Gaj, FHWA Office of Infrastructure, (202) 366-1336, Federal Highway Administration, 1200 New Jersey Ave. SE., Washington, DC 20590, or via email at Stephen.Gaj@dot.gov. For legal questions, please contact Ms. Janet Myers, FHWA Office of the Chief Counsel, (202) 366-2019, Federal Highway Administration, 1200 New Jersey Ave. SE., Washington, DC 20590-0001, or via email at Janet.Myers@dot.gov. Business hours for FHWA are from 8:00 a.m. to 4:30 p.m., e.t., Monday through Friday, except Federal holidays.

SUPPLEMENTARY INFORMATION:

Electronic Access and Filing

Copies of the proposed Transportation Asset Management Plan Development Processes Certification and Recertification Guidance; and Consistency Determination Guidance are available online for download and public inspection online under the docket at the Federal eRulemaking portal at: http://www.regulations.gov. You may also submit or retrieve comments online through the Federal eRulemaking portal. The Web site is available 24 hours each day, 365 days each year. Electronic submission and retrieval help and guidelines are available under the help section of the Web site.

An electronic copy of this document may also be downloaded from Office of the Federal Register's home page at: http://www.archives.gov/federal_register and the Government Publishing Office's Web page at: https://www.gpo.gov/fdsys/. Late comments will be considered to the extent practicable.

Background

Under the asset management provisions enacted in MAP-21, codified at 23 U.S.C. 119, State DOTs must develop and implement a risk-based TAMP. This TAMP must include all National Highway System (NHS) pavements and bridges, regardless of whether the State or some other entity owns the relevant NHS facility.

The FHWA must take two actions with respect to State DOT asset management activities. The first is TAMP development process certification/recertification. Under 23 U.S.C. 119(e)(6), FHWA must certify at least every 4 years that the State DOT's processes for developing its TAMP are consistent with applicable requirements. The FHWA must also recertify whenever the State amends its TAMP development processes, in accordance with 23 CFR 515.13(c). The second FHWA action, under 23 U.S.C. 119(e)(5), is an annual consistency determination, which evaluates whether the State DOT has developed and implemented a TAMP that is consistent with the requirements of 23 U.S.C. 119. The FHWA adopted the asset management rule, 23 CFR part 515, to implement these and other asset management requirements. The FHWA Division Offices (Divisions) are responsible for making these two decisions on behalf of FWHA.

To assist State DOTs and Divisions with these requirements, the FHWA Office of Asset Management, Pavements, and Construction is seeking comment on the two draft guidance documents announced by this notice. Please note that any comments should be limited to these guidance documents; FHWA is not soliciting further comment on the Asset Management Final Rule.

The Transportation Asset Management Plan Development Processes Certification and Recertification Guidance provides a framework for Divisions to undertake and complete the process certification for a State DOT's TAMP development processes as outlined in 23 CFR 515.13. The Transportation Asset Management Plan Consistency Determination Guidance assists Divisions on evaluating whether a State DOT has developed and implemented its TAMP in accordance with provisions in 23 CFR 515.13(b). All guidance is subject to change as the state of asset management practices change and the asset management rule is further implemented.

Authority: 23 U.S.C. 119; 23 CFR part 515; 49 CFR 1.85.

Issued on: May 26, 2017.
Walter C. Waidelich, Jr.,
Acting Deputy Administrator, Federal Highway Administration.

[FR Doc. 2017-11529 Filed 6-2-17; 8:45 am]

BILLING CODE 4910-22-P